DEPARTMENT OF DEFENSE

GENERAL SERVICES ADMINISTRATION

NATIONAL AERONAUTICS AND SPACE ADMINISTRATION

48 CFR Parts 1, 2, 22, and 52

[FAC 2005-64; FAR Case 2011-028; Correction; Docket 2011-028, Sequence 1]

RIN 9000-AM21

Federal Acquisition Regulation; Nondisplacement of Qualified Workers Under Service Contracts

AGENCIES: Department of Defense (DoD), General Services Administration (GSA), and National Aeronautics and Space Administration (NASA).

ACTION: Final rule; correction.

SUMMARY: DoD, GSA, and NASA are issuing a correction to the applicability date of FAR Case 2011-028; Nondisplacement of Qualified Workers Under Service Contracts, which was published in the Federal Register at 77 FR 75766, December 21, 2012.

DATES: Effective Date: January 18, 2013.

FOR FURTHER INFORMATION CONTACT: Mr. Edward Loeb, Procurement Analyst, at 202-501-0650, for clarification of content. For information pertaining to status or publication schedules, contact the Regulatory Secretariat at 202-501-4755. Please cite FAC 2005-64; FAR Case 2011-028; Correction.

SUPPLEMENTARY INFORMATION:

Correction

In rule FR Doc. 2012-30592 published in the Federal Register at 77 FR 75766, December 21, 2012, make the following correction:

On page 75766, in the third column, under DATES, Applicability Date, remove “paragraph (c)” and add “paragraph (d)” in its place.

Authority: 40 U.S.C. 121(c); 10 U.S.C. chapter 137; and 51 U.S.C. 20113.

Dated: January 8, 2013.
Laura Auletta,
Director, Office of Governmentwide Acquisition Policy, Office of Acquisition Policy, Office of Governmentwide Policy.

[FR Doc. 2013-00655 Filed 1-14-13; 8:45 am]

BILLING CODE 6820-EP-P